DEPARTMENT OF HEALTH AND HUMAN SERVICES

42 CFR Part 71

[Docket No. CDC-2020-0013]

RIN 0920-AA75

Expiration of Interim Final Rule: Control of Communicable Diseases; Foreign Quarantine

AGENCY: Centers for Disease Control and Prevention (CDC), Department of Health and Human Services (HHS).

ACTION: Final rule.

SUMMARY: The Centers for Disease Control and Prevention (CDC) in the Department of Health and Human Services (HHS) is announcing that interim final rule (IFR) 0920-AA75, which amended its Foreign Quarantine regulations during the COVID-19 public health emergency, has expired.

DATES: This final rule is effective December 4, 2025. The interim final rule expired on November 21, 2025.

FOR FURTHER INFORMATION CONTACT: Ashley C. Altenburger, J.D., Division of Global Migration Health, Centers for Disease Control and Prevention, 1600 Clifton Road NE, MS-H16-4, Atlanta, Georgia 30329. Telephone: 1-800-232-4636.

SUPPLEMENTARY INFORMATION: On February 7, 2020, HHS/CDC published an interim final rule (IFR) (85 FR 7874) which amended 42 CFR 71.4 by adding two new paragraphs, (d) and (e). These paragraphs enabled CDC to require airlines to collect, and provide to CDC, certain data regarding passengers and crew arriving from foreign countries for the purposes of health education, treatment, prophylaxis, or other appropriate public health interventions, including travel restrictions. At the time, HHS and CDC determined that, given the exigent and rapidly emerging circumstances associated with the 2019-nCoV outbreak, it would have been impracticable and contrary to the public health and, thus, to the public interest, to delay putting these provisions in place until a full public notice-and-comment process had been completed. The IFR indicated that the terms of the rule would expire “on the earlier of (1) the date that is two incubation periods after the last known case of 2019-nCoV, or (2) when the Secretary determines there is no longer a need for this interim final rule.”

The Federal Public Health Emergency for COVID-19 expired on May 11, 2023. The HHS Secretary has now determined that there is no longer a need for this interim final rule. Therefore, paragraphs (d) and (e) of 42 CFR 71.4 expired on November 21, 2025. Paragraphs (a) through (c), which were finalized in 2017, shall remain (82 FR 6975, Jan. 19, 2017, as amended at 82 FR 31728, July 10, 2017).

List of Subjects in 42 CFR Part 71

Apprehension, Communicable diseases, Conditional release, CDC, Ill person, Isolation, Non-invasive, Public health emergency, Public health prevention measures, Qualifying stage, Quarantine, Quarantinable, Communicable disease.

For the reasons set forth in the preamble, the Department of Health and Human Services, on behalf of the Centers for Disease Control and Prevention, amends 42 CFR part 71 as follows:

PART 71—FOREIGN QUARANTINE

1. The authority citation for part 71 continues to read as follows:

Authority: Secs. 215 and 311 of the Public Health Service (PHS) Act, as amended (42 U.S.C. 216, 243); secs. 361-369, PHS Act, as amended (42 U.S.C. 264-272).

§ 71.4 [Amended]

2. Amend § 71.4 by removing paragraphs (d) and (e).

Robert F. Kennedy, Jr.,
Secretary, Department of Health and Human Services.

[FR Doc. 2025-21962 Filed 12-3-25; 8:45 am]

BILLING CODE 4163-18-P